DEPARTMENT OF THE INTERIOR

Bureau of Land Management

[WO-250-1220-PC-24 1A]

Extension of Approved Information Collection, OMB Approval Number 1004-0165

AGENCY: Bureau of Land Management, Interior.

ACTION: Notice and request for comments.

SUMMARY: In accordance with the Paperwork Reduction Act of 1995, the Bureau of Land Management (BLM) requests the Office of Management and Budget (OMB) to extend an existing approval to collect information from individuals submitting nominations for significant caves under the Federal Cave Resources Protection Act of 1988 and requesting confidential cave information. BLM needs the information to determine which caves we will list as significant and decide whether to grant access to confidential cave information.

DATES: You must submit your comments to BLM at the address below on or before September 30, 2002. BLM will not necessarily consider any comments received after the above date.

ADDRESSES: You may mail comments to: Regulatory Affairs Group (WO-630), Eastern States Office, 7450 Boston Blvd., Springfield, Virginia 22153.

You may send comments via Internet to: WOComment@blm.gov. Please include “Attn: 1004-0165” and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact James Goodbar, BLM Field Office, Carlsbad, New Mexico, on (505) 234-5929 (Commercial or FTS). Persons who use a telecommunication device for the deaf (TDD) may call the Federal Information Relay Service (FIRS) on 1-800-877-8330, 24 hours a day, seven days a week, to contact Mr. Goodbar.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Federal Cave Resources Protection Act of 1988, 102 Stat. 4546, 16 U.S.C. 4301, requires identifying, protecting, and maintaining significant caves on public lands the Department of the Interior, BLM manages. The implementing regulations are found at 43 CFR 37-Cave Management. Federal agencies must consult with “cavers” and other interested parties and develop a list of significant caves. The regulations establish criteria for identifying significant caves and integrate cave management into existing planning and management processes to protect cave resource information. We protect this information to prevent vandalism and disturbance of significant caves. Other Federal or state agencies, bona fide educational or research institutes, or individuals or organizations who assist land management agencies with cave management activities may request access to confidential cave information. BLM uses the Significant Cave Nomination Worksheet to collect some of the requested information on cave management activities.

Based on BLM's experience administering this program, we estimate the public reporting burden is 3 hours for each nomination and 30 minutes for each request for confidential cave information. In FY 2000, BLM estimated 50 cave nominations and 10 requests for confidential cave information are filed annually, with a total annual burden of 155 hours. Respondents are cavers and other interested parties.

BLM will summarize all responses to this notice and include them in the request for OMB approval. All comments will become a matter of a public record.

Dated: July 19, 2002.
Michael H. Schwartz,
Bureau of Land Management, Information Collection Clearance Officer.

[FR Doc. 02-19190 Filed 7-29-02; 8:45 am]

BILLING CODE 4310-84-M